DEPARTMENT OF ENERGY

Federal Energy Regulatory Commission

Combined Notice of Filings #1

Take notice that the Commission received the following exempt wholesale generator filings:

Docket Numbers: EG23-11-000.

Applicants: Resurgence Solar I, LLC.

Description: Notice of Self-Certification of Exempt Wholesale Generator Status of Resurgence Solar I, LLC.

Filed Date: 10/20/22.

Accession Number: 20221020-5188.

Comment Date: 5 p.m. ET 11/10/22.

Docket Numbers: EG23-12-000.

Applicants: Resurgence Solar II, LLC.

Description: Notice of Self-Certification of Exempt Wholesale Generator Status of Resurgence Solar II, LLC.

Filed Date: 10/20/22.

Accession Number: 20221020-5189.

Comment Date: 5 p.m. ET 11/10/22.

Take notice that the Commission received the following electric rate filings:

Docket Numbers: ER20-681-007.

Applicants: Tri-State Generation and Transmission Association, Inc.

Description: Compliance filing: MBR Compliance Filing to be effective 3/7/2022.

Filed Date: 10/21/22.

Accession Number: 20221021-5143.

Comment Date: 5 p.m. ET 11/14/22.

Docket Numbers: ER22-680-004.

Applicants: Southern California Edison Company.

Description: Tariff Amendment: Second Amended WDAT Enhancements to be effective 12/21/2022.

Filed Date: 10/21/22.

Accession Number: 20221021-5069.

Comment Date: 5 p.m. ET 11/14/22.

Docket Numbers: ER23-151-000.

Applicants: PJM Interconnection, L.L.C.

Description: § 205(d) Rate Filing: Amendment to ISA No. 4290, Queue No. Y3-044/Y3-050/Y3-053 (amend) to be effective 10/21/2015.

Filed Date: 10/20/22.

Accession Number: 20221020-5157.

Comment Date: 5 p.m. ET 11/10/22.

Docket Numbers: ER23-152-000.

Applicants: Pacific Gas and Electric Company.

Description: § 205(d) Rate Filing: Amendment to Interim Black Start Agreement (RS 234) 2022 to be effective 12/20/2022.

Filed Date: 10/21/22.

Accession Number: 20221021-5000.

Comment Date: 5 p.m. ET 11/14/22.

Docket Numbers: ER23-153-000.

Applicants: PJM Interconnection, L.L.C.

Description: § 205(d) Rate Filing: Original ISA, Service Agreement No. 6657; Queue No. AF1-050 to be effective 9/21/2022.

Filed Date: 10/21/22.

Accession Number: 20221021-5013.

Comment Date: 5 p.m. ET 11/14/22.

Docket Numbers: ER23-154-000.

Applicants: Carson Hybrid Energy Center LLC.

Description: Baseline eTariff Filing: Application for Market Based Rate Authority to be effective 1/1/2023.

Filed Date: 10/21/22.

Accession Number: 20221021-5016.

Comment Date: 5 p.m. ET 11/14/22.

Docket Numbers: ER23-155-000.

Applicants: Southwest Power Pool, Inc.

Description: § 205(d) Rate Filing: 4028 Pixley Solar Energy & ITCGP Facilities Service Agr to be effective 12/20/2022.

Filed Date: 10/21/22.

Accession Number: 20221021-5041.

Comment Date: 5 p.m. ET 11/14/22.

Docket Numbers: ER23-156-000.

Applicants: PJM Interconnection, L.L.C.

Description: § 205(d) Rate Filing: Original ISA, Service Agreement No. 6664; Queue No. AF1-083 to be effective 9/21/2022.

Filed Date: 10/21/22.

Accession Number: 20221021-5043.

Comment Date: 5 p.m. ET 11/14/22.

Docket Numbers: ER23-157-000.

Applicants: PJM Interconnection, L.L.C.

Description: § 205(d) Rate Filing: Amendment to ISA, Service Agreement No. 6198; Queue No. AE1-104 to be effective 9/9/2021.

Filed Date: 10/21/22.

Accession Number: 20221021-5046.

Comment Date: 5 p.m. ET 11/14/22.

Docket Numbers: ER23-158-000.

Applicants: Public Service Company of Colorado.

Description: § 205(d) Rate Filing: SCC_Attachment B and C to be effective 1/1/2023.

Filed Date: 10/21/22.

Accession Number: 20221021-5099.

Comment Date: 5 p.m. ET 11/14/22.

Docket Numbers: ER23-159-000.

Applicants: Public Service Company of Colorado.

Description: § 205(d) Rate Filing: SCC_Joint Op. Agreement to be effective 1/1/2023.

Filed Date: 10/21/22.

Accession Number: 20221021-5100.

Comment Date: 5 p.m. ET 11/14/22.

Docket Numbers: ER23-160-000.

Applicants: Arizona Public Service Company.

Description: § 205(d) Rate Filing: Rate Schedule Nos. 298 and 299, Navajo Agreements to be effective 12/21/2022.

Filed Date: 10/21/22.

Accession Number: 20221021-5132.

Comment Date: 5 p.m. ET 11/14/22.

Docket Numbers: ER23-161-000.

Applicants: Public Service Company of Colorado.

Description: § 205(d) Rate Filing: SCC_Cost-based Coord. Services to be effective 1/1/2023.

Filed Date: 10/21/22.

Accession Number: 20221021-5152.

Comment Date: 5 p.m. ET 11/14/22.

Docket Numbers: ER23-162-000.

Applicants: Public Service Company of Colorado.

Description: § 205(d) Rate Filing: Social Cost of Carbon_(2) to be effective 1/1/2023.

Filed Date: 10/21/22.

Accession Number: 20221021-5156.

Comment Date: 5 p.m. ET 11/14/22.

Take notice that the Commission received the following qualifying facility filings:

Docket Numbers: QF23-85-000.

Applicants: Generate Capital, PBC.

Description: Form 556 of Generate Capital, PBC.

Filed Date: 10/21/22.

Accession Number: 20221021-5083.

Comment Date: 5 p.m. ET 11/14/22.

Docket Numbers: QF23-86-000.

Applicants: Generate Capital, PBC.

Description: Form 556 of Generate Capital, PBC [B].

Filed Date: 10/21/22.

Accession Number: 20221021-5086.

Comment Date: 5 p.m. ET 11/14/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 21, 2022.
Kimberly D. Bose,
Secretary.

[FR Doc. 2022-23416 Filed 10-26-22; 8:45 am]

BILLING CODE 6717-01-P